DEPARTMENT OF LABOR

Proposed Collection for Data Validation Requirement for Employment and Training Programs; Comment Request

AGENCY: Employment and Training Administration (ETA), Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning a revision of a data validation requirement for the following employment and training programs: Workforce Investment Act (WIA) Title IB, Wagner-Peyser, Trade Adjustment Assistance (TAA), National Farmworker Jobs (NFJP), Indian and Native American Employment and Training, and Senior Community Service Employment (SCSEP).

A copy of the proposed information collection request (ICR) can be obtained by contacting the office listed below in the addresses section of this notice or by accessing: http://www.doleta.gov/OMBCN/OMBControlNumber.cfm.

DATES: Written comments must be submitted to the office listed in the addressee's section below on or before July 31, 2007.

ADDRESSES: Submit written comments to the U.S. Department of Labor, Employment and Training Administration, Office of Performance and Technology, 200 Constitution Avenue, NW., Room S-5206, Washington, DC 20210, Attention: Karen A. Staha, Director, Division of System Accomplishments. Telephone number: (202) 693-3031 (this is not a toll-free number). Fax: (202) 693-3490. E-mail: Staha.Karen@dol.gov.

FOR FURTHER INFORMATION CONTACT: Traci DiMartini, Office of Performance and Technology, Employment and Training Administration, U.S. Department of Labor, 200 Constitution Avenue, NW., Room S-5206, Washington, DC 20210; telephone: (202) 693-3698 (this is not a toll-free number); fax: (202) 693-3490; e-mail: Dimartini.Traci@dol.gov.

SUPPLEMENTARY INFORMATION:

I. Background

The accuracy and reliability of program reports submitted by states and grantees using Federal funds are fundamental elements of good public administration, and are necessary tools for maintaining and demonstrating system integrity. The President's Management Agenda to improve the management and performance of the Federal government has emphasized the importance of complete information for program monitoring and improving program results. States and grantees receiving funding under WIA Title IB, Wagner-Peyser Act, TAA, and the Older Americans Act (i.e., SCSEP) are required to maintain and report accurate program and financial information (WIA section 185 (29 U.S.C. 2935) and WIA Regulations 20 CFR 667.300(e)(2), Wagner-Peyser Act section 10 (29 U.S.C. 49i), Older Americans Act section 503(f)(3) and (4) (42 U.S.C. 3056a(f)(3) and (4)), and TAA regulations 20 CFR 617.57). Further, all states and grantees receiving funding from ETA and the Veterans' Employment and Training Service are required to submit reports or participant records and attest to the accuracy of these reports and records.

Performance audits conducted by the Department of Labor's Office of Inspector General, however, found that the accuracy of reported performance outcomes could not be assured due to insufficient local, state, and Federal oversight. To address this concern and meet the Agency's goal for accurate and reliable data, ETA implemented a data validation process in order to ensure the accuracy of data collected and reported on program activities and outcomes.

Data Validation. The data validation requirement for employment and training programs strengthens the workforce system by ensuring that accurate and reliable information on program activities and outcomes is available. Data validation is intended to accomplish the following goals:

• Ensure that critical performance data are accurate.

• Detect and identify specific problems with a state's or grantee's reporting process, including software and data issues, to enable the state or grantee to correct the problems.

• Help states and grantees analyze the causes of performance successes and failures by displaying participant data organized by performance outcomes. In addition, the process allows states and grantees to select appropriate validation samples necessary to compute statistically significant error rates.

Data validation consists of two parts:

1. Report validation evaluates the validity of aggregate reports submitted to ETA by checking the accuracy of the reporting software used to calculate the reports. Report validation is conducted by processing a complete file of participant records into validation counts and comparing the validation counts to those reported by the state or grantee.

2. Data element validation assesses the accuracy of participant data records. Data element validation is conducted by reviewing samples of participant records against source documentation to ensure compliance with Federal definitions.

Data Validation Background. WIA Title IB, Wagner-Peyser, and TAA program staff have been conducting data validation for three years. The states received training prior to beginning validation and receive ongoing training and technical assistance from ETA throughout the validation process. NFJP grantees have been conducting data validation for two years, and have received ongoing training and technical assistance during this period. SCSEP grantees will begin data validation by the end of Calendar Year (CY) 2007. Indian and Native American program grantees will pilot validation by 2008.

Resources. The requirement to perform validation derives from states' and grantees' responsibility to provide accurate information on program activities and outcomes to ETA. States and grantees are expected to provide resources for conducting validation from their administrative funds. Validation of program performance is a basic responsibility of grantees, who are required to report on program performance, in accordance with statutory provisions and Department of Labor regulations (29 CFR 95.51 and 97.40). ETA has taken a number of steps to minimize the resources needed for data validation, including developing tools that states and grantees can use to conduct validation. The estimates provided below indicate that annual staff requirements for a state to continue data validation operations for WIA Title IB, Wagner-Peyser, and TAA programs will be on average 792 hours each year (or less than ½ of a staff year) for all three programs combined. For the NFJP, Indian and Native American program, and SCSEP grantees, the annual staff requirements will be on average 103 hours (or about 1/20 of a staff year) for each grant.

Data Validation Tools. To reduce the startup costs of implementing data validation, there are standardized software and user handbooks that states and grantees can use to conduct data validation. Software and handbooks have already been developed for the state programs and the NFJP, and will be developed for the Indian and Native American program and the SCSEP.

• Software generates samples, worksheets, and reports on data accuracy. For report validation, the software validates the accuracy of aggregate reports that are generated by the state's or grantee's reporting software and produces an error rate for each reported count. For data element validation, the software generates a sample of the participant records and data elements for the state or grantee to validate. The software produces worksheets on which the validator records information after checking the source documentation in the sampled case files. The software calculates error rates for each data element, with confidence intervals of 3.5 percent for large states/grantees and 4 percent for small states/grantees.

• User handbooks provide detailed information on software installation, building and importing a validation file, and completing report and data element validation. The handbooks also explain the validation methodology, including sampling specifications and data element validation instructions for each data element to be validated.

Data Recording and Reports. States and grantees submit their validation results electronically to ETA in the same manner as other reports. The results are stored in a data base in ETA's headquarters in Washington, DC, and compiled in an annual validation accuracy report.

Training and Technical Assistance. ETA has provided validation training and technical assistance to states in regional sessions on an ongoing basis since the summer of 2003. Technical assistance has also been provided on an ongoing basis to the NFJP grantees. Training for the SCSEP will take place in CY 2007. Indian and Native American program grantees will receive training prior to implementation. States and grantees may obtain technical assistance on validation procedures and the use of the validation tools by contacting ETA's Office of Performance and Technology.

Revisions have been made for two reasons. First, for the initial information collection request, ETA combined the burden estimates for all the programs since all would be incurring start-up burden. This time, ETA has disaggregated the estimates for each program to distinguish those that are just beginning to implement data validation and have yet to incur a startup burden, from those that have already implemented data validation and will incur no new start-up burden when the information collection is extended.

Second, some of the data elements to be validated have been revised to reflect the changes made to specific program reporting requirements and the definitions of the performance measures. These changes include: The addition of WIA Title IB validation requirements for the National Emergency Grants (NEG) and older youth funding streams; the deletion of data elements from the WIA Title IB adult, dislocated worker, and younger youth program validation requirements; and the deletion of data elements from the TAA validation requirements. The new data element requirements are documented in the programs' data validation user handbooks.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Revision of Approved Collection.

Agency: Employment and Training Administration.

Title: Data Validation Requirement for Employment and Training Programs

OMB Number: 1205-0448.

Recordkeeping: States and grantees must maintain complete records of all validation activities for three years. The retention requirement will apply to records of all validation activities, including files, worksheets, reports, and source documentation.

Affected Public: State, local and tribal government entities and private non-profit organizations.

Total Respondents: 318 (53 states and 265 grantees).

Frequency: Complete data validation annually.

Total Responses: 424 (3 responses each for the 53 states and 1 response for each of the 265 grantees).

Average Annual Time per Respondent: 792 hours for states' validations for WIA Title IB, Wagner-Peyser, and TAA combined, and 103 hours per grantee for the NFJP, Indian and Native American program, and the SCSEP.

Total Annual Burden Hours: 41,970 for all 53 states plus 27,361 for all 265 grantees when fully implemented.

Average Annual Cost per Respondent/Total Burden Cost (operating/maintaining): $25,736 on average per state and $1,364,025 per year for all states to complete validation for the WIA Title IB, Wagner-Peyser, and TAA programs. The estimated annual cost of conducting validation for the NFJP, Indian and Native American program, and the SCSEP grantees is $1,960 on average per grantee and $519,301 total.

Total Burden Hours (start-up): There is no startup burden for WIA Title IB, Wagner-Peyser, and TAA programs because this was incurred when data validation was first implemented three years ago. NFJP grantees have been conducting data validation for two years and have received ongoing training and technical assistance during this period SCSEP grantees will begin data validation by the end of CY 2007. Indian and Native American program grantees will pilot validation by 2008. Startup activities for the Indian and Native American program and SCSEP will require an additional 75 hours on average per grantee in the initial year of validation for a total of 16,072 start-up burden hours.

Total Burden Cost (start-up): $1,311 for each of the 74 SCSEP grants and $847 for each of the 141 Indian and Native American program grantee for 281,931 combined for the 215 grantees in the initial year of validation for both the Indian and Native American program and the SCSEP, and $0 for NFJP and the WIA Title IB, Wagner-Peyser, and TAA programs.

Data validation, when fully implemented, is estimated to require an annual burden of 69,331 hours and $1,883,326 for operating all six programs subject to the validation requirement. And as stated earlier, an additional 16,072 hours and $281,931 in start-up burden in the initial year of validation is estimated for the Indian and Native American and SCSEP grantees. These estimates represent a significant decrease in costs and a slight increase in hours from the current OMB inventory for ETA data validation. The change is attributable to three factors:

• The elimination of start-up costs for WIA, Wagner-Peyser, and TAA programs, and the NFJP validation;

• Updates in the number of grantees required to conduct data validation; and

• Updates to the hourly cost of conducting data validation for grantee staff.

Comments submitted in response to this comment request will be summarized and/or included in the request for Office of Management and Budget approval of the information collection request; they will also become a matter of public record.

Dated: May 21, 2007.
John R. Beverly, III,
Administrator, Office of Performance and Technology.

[FR Doc. E7-10558 Filed 5-31-07; 8:45 am]

BILLING CODE 4510-FN-P